DEPARTMENT OF HEALTH AND HUMAN SERVICES

Centers for Disease Control and Prevention

[60Day-21-21CT; Docket No. CDC-2021-0006]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a request for emergency clearance of the information collection titled Requirement for Negative Pre-Departure Covid-19 Test Result or Documentation of Recovery from Covid-19 for all Airline or other Aircraft Passengers arriving into the United States from any foreign country. This collection accompanies a CDC Order of the same name and is designed to prohibit the introduction into the United States of any airline passenger departing from the any foreign country unless the passenger:

(1) Has a negative pre-departure test result for COVID-19 (Qualifying Test), or (2) has written or electronic documentation of recovery from COVID-19 in the form of a positive viral test result and a letter from a licensed health care provider or public health official stating that the passenger has been cleared for travel.

DATES: CDC must receive written comments on or before April 13, 2021.

ADDRESSES: You may submit comments, identified by Docket No. CDC-2021-0006 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, of the Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Requirement for Negative Pre-Departure Covid-19 Test Result or Documentation of Recovery From Covid-19 for all Airline or other Aircraft Passengers Arriving into the United States from any Foreign Country—New—National Center for Emerging Zoonotic and Infectious Diseases (NCEZID), Centers for Disease Control and Prevention (CDC).

Background and Brief Description

This information collection accompanies the Notice and Order named above. Pursuant to 42 CFR 71.20 and as set forth in greater detail below, this Notice and Order prohibit the introduction into the United States of any airline passenger departing from the any foreign country unless the passenger:

(1) Has a negative pre-departure test result for COVID-19 (Qualifying Test), or (2) has written or electronic documentation of recovery from COVID-19 in the form of a positive viral test result and a letter from a licensed health care provider or public health official stating that the passenger has been cleared for travel (Documentation of Recovery).

The negative test must be a viral test that was conducted on a specimen collected during the three days preceding the flight's departure from a foreign country. Passengers must retain written or electronic documentation reflecting the Qualifying Test, or Documentation of Recovery, presented to the airline and produce such documentation upon request to any U.S. government official or a cooperating state or local public health authority.

Pursuant to 42 CFR 71.31(b), the Order constitutes a controlled free pratique to any airline with an aircraft arriving into the United States from any foreign country. Pursuant to the controlled free pratique, the airline must comply with the following conditions in order to receive permission for the aircraft to enter and disembark passengers in the United States:

• Airline or other aircraft operator must verify that every passenger—two years of age or older—onboard the aircraft has attested to receiving a negative Qualifying Test result or to having recovered from COVID-19 after previous SARS-CoV-2 infection and being cleared to travel by a licensed health care provider or public health official.

• Airline or other aircraft operator must confirm that every passenger onboard the aircraft has documentation of a negative Qualifying Test result or Documentation of Recovery from COVID-19.

Certain exemptions and waivers do apply, and are as follows:

• Crew members of airlines or other aircraft operators provided that they follow industry standard protocols for the prevention of COVID-19 as set forth in relevant Safety Alerts for Operators (SAFOs) issued by the Federal Aviation Administration (FAA).

• Airlines or other aircraft operators transporting passengers with COVID-19 pursuant to CDC authorization and in accordance with CDC guidance.

• Federal law enforcement personnel on official orders who are traveling for the purpose of carrying out a law enforcement function, provided they are covered under an occupational health and safety program in accordance with CDC guidance. Those traveling for training or other business purposes remain subject to the requirements of this Order.

• U.S. Department of Defense (DOD) personnel, including military personnel and civilian employees, dependents, contractors (including whole aircraft charter operators), and other U.S. government employees when traveling on DOD assets, provided that such individuals are under competent military or U.S government travel orders and observing DOD precautions to prevent the transmission of COVID-19 as set forth in Force Protection Guidance Supplement 14—Department of Defense Guidance for Personnel Traveling During the Coronavirus Disease 2019 Pandemic (December 29, 2020) including its testing guidance.

• Individuals and organizations for which the issuance of a humanitarian exemption is necessary based on both (1) exigent circumstances where emergency travel is required to preserve health and safety (e.g., emergency medical evacuations) and (2) where pre-departure testing cannot be accessed or completed before travel. Additional conditions may be placed on those granted such exemptions, including but not limited to, observing precautions during travel, providing consent to post-arrival testing, and/or self-quarantine after arrival in the United States, as may be directed by federal, state, territorial, tribal or local public health authorities to reduce the risk of transmission or spread.

CDC anticipates certain additional cost burdens to respondents and record keepers due to the requirements. These costs fall into the following categories:

• Traveler testing and ancillary costs: $9,136,480,000.

• Traveler deferred travel costs: $44,370,000.

• Airline staff costs for digitizing attestations: $12,257,000.

• Airline costs to store attestations: $1,200-$1,050,000 a year depending on size of airline and number of travelers.

Estimated burden hours associated with this collection are 70,843,733.

Estimated Annualized Burden Hours
Type of respondent | Form name | Number of respondents | Number of responses per respondent | Average burden per response (in hours) | Total burden (in hours)
Traveler (3rd Party Disclosure) | Attestation of a negative COVID-19 test/Documentation indicating clearance for travel by a licensed healthcare provider or public health official | 34,000,000 | 1 | 2 | 68,000,000
Airline Desk Agent | Attestation of a negative COVID-19 test/Documentation indicating clearance for travel by a licensed healthcare provider or public health official | 34,000,000 | 1 | 5/60 | 2,833,333
Traveler | Request Exemption on Urgent Humanitarian Basis | 5,200 | 1 | 2 | 10,400
Total |  |  |  |  | 70,843,733

Jeffrey M. Zirger,
Lead, Information Collection Review Office, Office of Scientific Integrity, Office of Science, Centers for Disease Control and Prevention.

[FR Doc. 2021-02951 Filed 2-11-21; 8:45 am]

BILLING CODE 4163-18-P